FEDERAL COMMUNICATIONS COMMISSION

47 CFR Part 73

[MB Docket No. 14-46, RM-11717, DA 14-1334]

Radio Broadcasting Services; Rough Rock, Arizona

AGENCY: Federal Communications Commission.

ACTION: Final rule.

SUMMARY: At the request of The Navajo Nation, the Audio Division amends the FM Table of Allotments, by allotting FM Channel 258C2 at Rough Rock, Arizona, as a first local Tribal Allotment and a first local service to the community. A staff engineering analysis confirms that Channel 258C2 can be allotted to Rough Rock consistent with the minimum distance separation requirements of the Commission's Rules with the imposition of a site restriction 7.1 km (4.4 miles) southeast of the community. The reference coordinates are 36-21-08 NL and 109-49-54 WL.

DATES: Effective December 5, 2014, and applicable October 31, 2014.

FOR FURTHER INFORMATION CONTACT: Rolanda F. Smith, Media Bureau, (202) 418-2700.

SUPPLEMENTARY INFORMATION: This is a synopsis of the Commission's Report and Order, MB Docket No. 14-46, adopted September 15, 2014, and released September 16, 2014. The full text of this Commission decision is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via email www.BCPIWEB.com. This document does not contain information collection requirements subject to the Paperwork Reduction Act of 1995, Public Law 104-13. The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Arizona, is amended by adding Rough Rock, Channel 258C2.

[FR Doc. 2014-28589 Filed 12-4-14; 8:45 am]

BILLING CODE 6712-01-P